DEPARTMENT OF AGRICULTURE

Food and Nutrition Service

Agency Information Collection Activities: Proposed Collection; Comment Request: Additional Information To Be Collected for Reach and Resiliency—Round 2 Grants Under Uniform Grant Application Package for Discretionary Grant Programs

AGENCY: Food and Nutrition Service (FNS), USDA.

ACTION: Notice.

SUMMARY: The United States Department of Agriculture's (USDA) Food and Nutrition Service (FNS) plans to collect additional information from grant applicants for the second round of The Emergency Food Assistance Program (TEFAP) Reach and Resiliency Grant applications and add reporting questions on a biannual basis. FNS already has OMB approval for collection of information associated with these grants under the Uniform Grant Application for Non-Entitlement Discretionary Grants, as approved under OMB Control Number: 0584-0512 (Expiration Date: July 31, 2025). This notice solicits public comment on the additional information proposed for collection.

DATES: To be assured of consideration, written comments must be submitted or postmarked on or before November 16, 2022.

ADDRESSES:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond.

Comments must be submitted through one of the following methods:

• Preferred method: Submit information through the Federal eRulemaking Portal at http://www.regulations.gov. Follow the online instructions for submissions.

• Email: Send comments to Rachel.schoenian@usda.gov with a subject line “Reach and Resiliency Grant Information Collection.”

FOR FURTHER INFORMATION CONTACT: Rachel Schoenian, Policy Division, Supplemental Nutrition and Safety Programs, Food and Nutrition Service, U.S. Department of Agriculture, 1320 Braddock Place, Alexandria, Virginia 22314, 703-305-2937, or email rachel.schoenian@usda.gov.

SUPPLEMENTARY INFORMATION: The United States Department of Agriculture's (USDA) Food and Nutrition Service (FNS) will be soliciting applications for Round 2 awards for The Emergency Food Assistance Program (TEFAP) Reach and Resiliency Grants. FNS will ask applicants additional questions beyond the uniform grant application package discussed in OMB control 0584-0512, including additional reporting questions on a biannual basis. These questions will be incorporated into the Round 2 Request for Applications (RFA), the Round 2 Reach and Resiliency grant application template, and the Round 2 supplemental reporting questions template, but are also provided for review and public comment in this Notice.

These additional questions, which may be tweaked or revised prior to use, are listed below. The questions included below are in addition to those already required in the standard uniform grant application package and already included in OMB approval 0584-0512. For that reason, the list of questions below does not reflect all questions that will be included in the Round 2 Reach and Resiliency grant application template.

Supplemental Application Questions

• As an attachment, applicants will provide a list of all TEFAP eligible recipient agencies (ERAs) currently operating in the State, including those ERAs that have an agreement with another ERA, as outlined in FD-123, Maintenance of Lists of Eligible Recipient Agencies (ERA) Participating in TEFAP. The list should indicate whether or not the ERA is operating TEFAP under an agreement with the State agency or another ERA, the name of the other ERA (if applicable), and the street address(es) of any TEFAP distribution sites (as defined in 7 CFR 251.3(c)) that are operated by the ERA.

• Applicants that did not receive a Reach and Resiliency—Round 1 grant will provide a detailed narrative assessment of current TEFAP reach within the State/Territory and will identify any remote, rural, Tribal, and/or low-income areas that are currently underserved by TEFAP. Applicants will also provide an explanation of how the assessment was conducted and provide any attachments (e.g., a map of served/underserved areas within the State/Territory, or a map of TEFAP ERAs overlaid with a map of remote, rural, Tribal, and/or low-income areas) as necessary. If an applicant plans to utilize grants funds to complete such an assessment, they only need to indicate that in their response and will not be required to submit an assessment in the application.

• Applicants that received a Reach and Resiliency—Round 1 grant will provide a brief summary of planned Round 1 project activities and an update on implementation of those activities, indicating how the proposed Round 2 project plan will expand or complement Round 1 activities (if applicable). If Reach and Resiliency—Round 1 grant funds were utilized to conduct an assessment of TEFAP reach within the State/Territory, this update must include a brief description of any interim or final results of the Round 1 assessment, or a description of progress made on the assessment thus far.

• Applicants will provide the definitions of “remote,” “rural,” “Tribal,” and “low-income” that will be utilized for the proposed Round 2 project and an explanation of why specific definitions were chosen.

• Applicants will describe how they consulted with relevant stakeholders and/or utilized available data to form their Round 2 project plans.

• Applicants will state the percentage of requested Round 2 grant funds that will be kept at the State level or that will be expended on State expenses.

• Applicants will indicate interest in requesting additional funding past the maximum eligible funding amount outlined for their State/Territory in the Request for Applications. If interested in additional funding, applicants will state an amount of additional funds that the applicant would be able to utilize on allowable grant activities. Should additional funding be available, FNS will utilize responses to these question to award additional funds to interested applicants.

Supplemental Reporting Questions

• If applicable, applicants will provide a list of any remote, rural, Tribal, and/or low-income areas that have been incorporated into the State's TEFAP network or that are being better served as as a result of Round 2 grant funding, to date.

• If grant funds were utilized to conduct an assessment of current TEFAP reach within the State/Territory, and such assessment was finalized within the last reporting period, applicants will be asked to provide a narrative summary of the assessment. The summary should include a list of any remote, rural, Tribal, and/or low-income areas that were identified as underserved via the assessment, how “remote,” “rural,” “Tribal,” and “low-income” areas were defined, and an explanation of how the assessment was conducted.

Time Required To Complete Application Package

The time required to complete this information collection, meaning the TEFAP grant application package, is estimated to average approximately 88.22 hours per application. This burden estimate includes the time for reviewing instructions, searching existing data sources, gathering and maintaining the data needed, and completing and reviewing the collection of information for all aspects of the TEFAP Reach and Resiliency—Round 2 Grant, including the pre-award, post-award, and recordkeeping burden.

The supporting statement for OMB Control Number: 0584-0512 (Expiration Date: July 31, 2025) explicitly states that if FNS decides to use the uniform grant application package, FNS will note in the grant solicitation that applicants must use the uniform grant application package, and that the information collection has already been approved by OMB. If FNS determines that it needs grant applicants to provide additional information not contained in the uniform package, then FNS will publish at least a 30-day notice soliciting comments on its proposal to collect different or additional information before issuing the grant solicitation. FNS is publishing this notice to meet that requirement.

FNS will utilize these comments to adjust the collection of additional information as necessary.

Tameka Owens,
Assistant Administrator, Food and Nutrition Service.

[FR Doc. 2022-22415 Filed 10-14-22; 8:45 am]

BILLING CODE 3410-30-P